ENVIRONMENTAL PROTECTION AGENCY

[ER-FRL-6673-8]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in FR dated April 1, 2005 (70 FR 16815).

Draft EISs

EIS No. 20050342, ERP No. D-NOA-E91016-00, Consolidated Atlantic Highly Migratory Species Fishery Management Plan for Atlantic Tunas, Swordfish, and Shark and the Atlantic Billfish Fishery Management Plan, Implementation, Atlantic Coast, Caribbean and Gulf of Mexico.

Summary: EPA does not object to the proposed action. Rating LO.

EIS No. 20050523, ERP No. D-AFS-D65033-PA, West Branch of Tionesta Project, Road Construction and Vegetation Management, State Game Lands No 29 and Chapman Dam State Park, Sheffield, Warren County, PA.

Summary: EPA does not object to the proposed action. Rating LO.

EIS No. 20060024, ERP No. DS-AFS-F65039-WI, McCaslin Project, Vegetation Management Activities that are Consistent with Direction in the Nicolet Forest Plan, New Information to Address Inadequate Disclosure of the Cumulative Effect Analysis for Six Animal and Eight Plant Species, Lakewood/Lasna District, Chequamegaon-Nicolet National Forest, Oconto and Forest Counties, WI.

Summary: EPA expressed environmental concerns because the cumulative impact analysis does not include all reasonably foreseeable actions, and requested that the analysis be expanded to include all reasonable cumulative impacts, including non-USFS actions. Rating EC2.

Final EISs

EIS No. 20050537, ERP No. F-AFS-K61162-CA, Ansel Adams and John Muir Wildernesses, Trail and Commercial Pack Stock Management, Implementation, Inyo, Mono, Madera and Fresno Counties, CA.

Summary: EPA continues to have concerns about impacts relating to streams, meadows and trails and recommended destination quotas and maximum stock nights be aligned with the recovery needs of the resource. EPA also requested that the ROD describe public involvement and environmental analysis requirements for adaptive management decisions and clearly commit to the site-specific analysis of pack station locations and their impacts.

EIS No. 20050550, ERP No. F-AFS-K65287-CA, North Fork Eel Grazing Allotment Management Project, Proposing to Authorize Cattle Grazing on Four Allotment, Six Rivers National Forest, Mad River Ranger District, North Fork Eel river and Upper Mad River, Trinity County, CA.

Summary: No formal comment letter was sent to the preparing agency.

EIS No. 20060019, ERP No. F-FHW-C50014-NY, Willis Avenue Bridge Reconstruction, Proposing Reconstruction of 100-year Old Willis Avenue Bridge over the Harem River between Manhattan and the Bronx, New York and Bronx Counties, NY.

Summary: EPA does not object to the proposed project.

EIS No. 20060044, ERP No. F-SFW-H65024-IA, Driftless Area National Wildlife Refuge Comprehensive Conservation Plan, to Recover and Conserve the Northern Monkshood and Iowa Pleistocene Snail, IA.

Summary: No formal comment letter was sent to the preparing agency.

EIS No. 20060059, ERP No. F-USA-D11038-PA, Pennsylvania Army National Guard's 56th Brigade Transformation into a Stryker Brigade Combat Team (SBCT), Proposal to Comply with this Directive, near Annville, PA.

Summary: EPA's previous comments have been adequately addressed; therefore, EPA does not object to the proposed action.

Dated: March 28, 2006.
Robert W. Hargrove,
Director, NEPA Compliance Division, Office of Federal Activities.

[FR Doc. E6-4726 Filed 3-30-06; 8:45 am]

BILLING CODE 6560-50-P